DEPARTMENT OF THE INTERIOR

National Park Service

National Register of Historic Places; Notification of Pending Nominations

Nominations for the following properties being considered for listing in the National Register were received by the National Park Service before July 17, 2004. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by August 11, 2004.

Carol D. Shull,
Keeper of the National Register of Historic Places.

IOWA

Bremer County

Bank of Sumner, 118 W. First St., Sumner, 04000900

Cerro Gordo County

Cannon, Amaziah and Cornelia (Wait), House, 1581 N. Eisenhower Ave., Mason City, 04000899

Linn County

Lustron Home #02102, 2009 Williams Blvd. SW, Cedar Rapids, 04000898

MASSACHUSETTS

Berkshire County

Lenox High School, 109 Housatonic St., Lenox, 04000903

Middlesex County

Silver Hill Historic District, Silver Hill, Westland Rds., Merriam St., Weston, 04000902

MISSISSIPPI

De Soto County

Dockery House, 3831 Robertson Gin Rd., Hernando, 04000901

NORTH CAROLINA

Forsyth County

Ardmore Historic District, Roughly bounded by Knollwood, Queen, Duke, and Ardsley Sts., Winston-Salem, 04000904

Nissen Building (Boundary Increase), 314 W. Fourth St., Winston-Salem, 04000907

Mecklenburg County

Blake, Chairman, House, 318 Chairman Blake Ln., Davidson, 04000905

Palmer Fire School, 2601 E. Seventh St., Charlotte, 04000906

PUERTO RICO

Cabo Rojo Municipality

Punta Ostiones, Address Restricted, Cabo Rojo, 04000908

Carolina Municipality

Quebrada Maracuto, Address Restricted, Carolina, 04000909

TEXAS

Kendall County

Comfort Historic District (Boundary Increase), Roughly bounded by TX 27. Lindner Ave., Cypress Creek, First St., and Front St., Comfort, 04000911

VIRGINIA

Brunswick County

Church Home for Aged, Infirm and Disabled Colored People, 236 Pleasant Grove Rd., Broadnax, 04000910

WASHINGTON

King County

Falls City Masonic Hall, 4304 337th Place SE, Fall City, 04000922

Neighbor—Bennett House, 4317-337th Place SE, Fall City, 04000921

Vincent School, (Rural Public Schools of Washington State MPS) 8010 W. Snoqualmie Valley Rd., Carnation, 04000920

WEST VIRGINIA

Hampshire County

Pugh, Capt. David, House, Cty Rte 14 at Cty Rte 23/4, Hooks Mills, 04000913

Jackson County

Ripley Historic District, Portions of Charleston and Highlawn Drs., Church, Court, Main, Maple, North, Seventh, and South Sts., Ripley, 04000919

Jefferson County

Halltown colored Free School, Halltown Rd., 0.5 mi. NE of US 340, Halltown, 04000912

Monongalia County

Fourth Ward School, 287 Eureka Dr., Morgantown, 04000914

Pendleton County

Boggs Mill, US 33 and WV 28, N of jct. with Cty Rte 9, Seneca Rocks, 04000915

Pleasants County

Pleasants County Courthouse, (County Courthouses of West Virginia MPS) 301 Court Ln., St. Marys, 04000917

Ritchie County

Ritchie County Courthouse, (County Courthouses of West Virginia MPS) 115 E. Main St., Harrisville, 04000916

Wirt County

Wirt County Courthouse, (County Courthouses of West Virginia MPS) Washington St., Elizabeth, 04000918

A request for REMOVAL has been made for the following resource(s):

MISSISSIPPI

Yalbusha County

Newberger, Leopold, House 714 Depot St. Coffeeville 97001300

PENNSYLVANIA

Bucks County

Mood's Covered Bridge (Covered Bridges of the Delaware River Watershed TR) E of Perkasie on LR 09118, East Rockhill Township Perkasie 80003440

A request for a MOVE has been made for the following resource:

MISSISSIPPI

Hinds County

Porter Family Homestead (Raymond and Vicinity MRA) Off MS 18 Raymond vicinity, 86001702

[FR Doc. 04-16994 Filed 7-26-04; 8:45 am]

BILLING CODE 4312-51-P